DEPARTMENT OF THE INTERIOR

National Park Service

National Register of Historic Places; Notification of Pending Nominations

Nominations for the following properties being considered for listing in the National Register were received by the National Park Service before April 27, 2002. Pursuant to section 60.13 of 36 CFR part 60 written comments concerning the significance of these properties under the National Register criteria for evaluation may be forwarded by United States Postal Service, to the National Register Historic Places, National Park Service, 1849 C St. NW., NC400, Washington, DC 20240; by all other carriers, National Register of Historic Places, National Park Service, 800 N. Capitol St., NW, Suite 400, Washington, DC 20002; or by fax, 202-343-1836. Written or faxed comments should be submitted by May 31, 2002.

Beth M. Boland,
Acting Keeper of the National Register.

Arkansas

Conway County

Menifee High School Gymnasium

(Public Schools in the Ozarks MPS),

Jct. of N. Park St. and E. Mustang St.,

Menifee, 02000601

Wood, W.L., House,

709 N. Morrill St.,

Morrilton, 02000604

Scott County

Parks School,

AR 28,

Parks, 02000602

St. Francis County

Bond, Scott, Family Plot

(Ethnic and Racial Minority Settlement of the Arkansas Delta MPS),

0.3 W of 5th St. on AR 70W,

Madison, 02000603

Florida

Indian River County

Hallstrom House,

1723 SW Old Dixie Highway,

Vero Beach, 02000605

Leon County

Bannerman Plantation

(Rural Resources of Leon County MPS),

13426 Meridian Rd. N,

Tallahassee, 02000606

Kansas

Dickinson County

Abilene City Park Historic District

(New Deal-Era Resources of Kansas MPS),

4th St. at Poplar St. and Pine St.,

Abilene, 02000608

Marion County

Marion County Park and Lake,

1.0 mi. W of US 256 and US 77, 2 mi. S on Upland Rd.,

Marion, 02000607

Thomas County

Colby Municipal Swimming Pool and Bath House

(New Deal-Era Resources of Kansas MPS),

200 E. 5th St.,

Colby, 02000609

Minnesota

Hennepin County

Minneapolis Pioneers and Soldiers Memorial Cemetery,

2925 Cedar Ave. S,

Minneapolis, 02000612

Wirth, Theodore, House—Administration Building,

3954 Bryant Ave. S,

Minneapolis, 02000611

Wright County

Waverly Village Hall

(Federal Relief Commission in Minnesota MPS),

4th St. N bet. Atlantic and Elm Ave.,

Waverly, 02000613

Missouri

St. Louis Independent City

City Club Building,

1012-1024 Locust St.,

St. Louis (Independent City), 02000610

New Jersey

Sussex County

Black Creek Site—28SX297,

Maple Grange Rd.,

Vernon Township, 02000626

New York

Columbia County

Pine View Farm,

567 Collins St.,

Hillsdale, 020006014

Ontario County

Washington Street Cemetery,

Washington St.,

Geneva, 02000616

Suffolk County

AN/FPS-35 Radar Tower and Antenna,

Montauk Point State Parkway,

Montauk, 02000615

Oregon

Washington County

Clark Historic District,

Roughly bounded by 18th Ave., 16th Ave., “A” St., and Elm St.,

Forest Grove, 02000617

Virginia

Franklin County

Burwell—Holland House,

600 Jacks Mountain Rd.,

Glade Hill, 02000624

Lynchburg Independent City

Lower Basin Historic District (Boundary Increase),

1307 Main St., 103-109 Sixth St.,

Lynchburg (Independent City), 02000620

Mecklenburg County

Clarksville Historic District,

Roughly along Virginia Ave, from Rose Hill Ave., Ferry St., East St. and

Second St.,

Clarksville, 02000625

Newport News Independent City

Fields, James A., House,

617 27th St.,

Newport News (Independent City), 02000623

Smith's Pharmacy

3114 Chestnut Ave.,

Newport News, 02000618

Portsmouth Independent City

St. Paul's Catholic Church,

518 High St.,

Portsmouth (Independent City), 02000619

Roanoke Independent City

Roanoke City Market Historic District (Boundary Increase),

302 Campbell Ave., SE; 9 Church Ave, SE,

Roanoke (Independent City), 02000622

Rockingham County

Taylor Springs,

3712 Taylor Spring Ln.,

Harrisonburg, 02000621

A Request for Removal has been made for the following resources:

Minnesota

Hennepin County

Excelsior Fruit Growers Association Building,

450 3rd St.,

Excelsior, 82002959

Lake of the Woods County

Spooner Public School,

1st St., N. and 8th St., E.,

Baudette, 83000913

Rice County

Dump Road Bridge

(Iron and Steel Bridges in Minnesota MPS),

Twp. Rd. 45 over Straight River,

Fairbault vicinity, 89001835

[FR Doc. 02-12271 Filed 5-15-02; 8:45 am]

BILLING CODE 4310-70-M